DEPARTMENT OF ENERGY

Federal Energy Regulatory Commission

[Docket No. RP02-157-002]

Transwestern Pipeline Company; Notice of Compliance Filing

April 23, 2002.

Take notice that on April 17, 2002, Transwestern Pipeline Company (Transwestern), tendered for filing as a part of its FERC Gas Tariff, Second Revised Volume No. 1, 2nd Substitute 4th Revised Sheet No. 15, 2nd Substitute 10th Revised Sheet No. 25, and 2nd Substitute 6th Revised Sheet No. 34, proposed to be effective March 4, 2002.

Transwestern states that the above tariff sheets are being filed in compliance with the Commission's February 27, 2002 Order in Docket No. RP02-157-000. Transwestern states that in the Order, the Commission directed Transwestern to file revised tariff sheets that clearly indicate that a shipper on Transwestern's system must have title to the gas it is transporting. Therefore, Transwestern is submitting the second substitute tariff sheets to clarify that the shipper must have title prior to nominating gas receipts and deliveries on Transwestern's system and while such gas is transported on Transwestern's system.

Transwestern further states that copies of the filing have been mailed to each of its customers and interested State Commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-10449 Filed 4-26-02; 8:45 am]

BILLING CODE 6717-01-P